ENVIRONMENTAL PROTECTION AGENCY

[FRC-7786-5]

Notice of Proposed Purchaser Agreement Pursuant to the Comprehensive Environmental Response, Compensation and Liability Act of 1980, as Amended

AGENCY: Environmental Protection Agency (EPA).

ACTION: Notice; request for public comment.

SUMMARY: In accordance with section 122 of the Comprehensive Environmental Response, Compensation and Liability Act of 1980, as amended, (”CERCLA”), 42 U.S.C. 9622, notice is hereby given that a proposed purchaser agreement associated with the Fairmont Coke Works Property, Marion, West Virginia was executed by the Agency and by the United States Department of Justice. The Fairmont Coke Works Property is adjacent to the Big John's Salvage Site, Hoult Road. The Purchaser Agreement would compromise and settle claims of the United States against the Fairmont Coke Works Site Custodial Trust. In consideration of and in exchange for the United States's Covenant Not to Sue, and the removal of Lien, the Trust shall satisfy all obligations under sections V & VI, including but not limited to Access and Due Care, and all obligations established in the Memorandum of Agreement between the State of West Virginia Department of Environmental Protection and the United States Fish and Wildlife Service. In addition, the Trust shall abide by the principles of Stakeholder Involvement and Redevelopment.

For thirty (30) days following the date of publication of this notice, the Agency will receive written comments relating to the proposed settlement. The Agency's response to any comments received will be available for public inspection at the U.S. Environmental Protection Agency, Region III, 1650 Arch Street, Philadelphia, PA 19103.

DATES: Comments must be submitted on or before August 12, 2004.

ADDRESSES: The proposed agreement and additional background information relating to the settlement are available for public inspection at the U.S. Environmental Protection Agency, Region III, 1650 Arch Street, Philadelphia, PA 19103. A copy of the proposed agreement may be obtained from Bonnie Pugh Winkler, U.S. Environmental Protection Agency, Assistant Regional Counsel (3RC44), 1650 Arch Street, Philadelphia, PA 19103. Comments should reference the “Fairmont Coke Works Site”, and “EPA Docket No. CERC-03-2004-0001PP”, and should be forwarded to Bonnie Pugh Winkler at the above address.

FOR FURTHER INFORMATION CONTACT: Bonnie Pugh Winkler (3RC44), Assistant Regional Counsel, U.S. Environmental Protection Agency, 1650 Arch Street, Philadelphia, PA 19103, Winkler.bonniepugh@epa.gov, Phone: (215) 814-2680.

Donald S. Welsh,
Regional Administrator, Region III.

[FR Doc. 04-15818 Filed 7-12-04; 8:45 am]

BILLING CODE 6560-50-M